NATIONAL AERONAUTICS AND SPACE ADMINISTRATION

[Notice 05-049]

Government-Owned Inventions, Available for Licensing

AGENCY: National Aeronautics and Space Administration.

ACTION: Notice of availability of inventions for licensing.

SUMMARY: The inventions listed below are assigned to the National Aeronautics and Space Administration, have been filed in the United States Patent and Trademark Office, and are available for licensing.

DATES: March 17, 2005.

FOR FURTHER INFORMATION CONTACT: David Walker, Patent Counsel, Goddard Space Flight Center, Mail Code 503, Greenbelt, MD 20771-0001; telephone (301) 286-7351; fax (301) 286-9502.

NASA Case No. GSC-14807-1: Analyzing Nonstationary Financial Time Series via Hilbert-Huang Transform (HHT);

NASA Case No. GSC-14775-1: Integrated Analysis and Test Systems and Methods.

Dated: March 10, 2005.
Keith T. Sefton,
Deputy General Counsel, Administration and Management.

[FR Doc. 05-5253 Filed 3-16-05; 8:45 am]

BILLING CODE 7510-13-P